DEPARTMENT OF DEFENSE

Office of the Secretary of Defense

Renewal of Department of Defense Federal Advisory Committees

AGENCY: DoD.

ACTION: Notice.

SUMMARY: Under the provisions of Section 33 U.S.C. 426-2, the Federal Advisory Committee Act of 1972 (5 U.S.C. Appendix), the Government in the Sunshine Act of 1976 (5 U.S.C. 552b), and 41 CFR 102-3.50, the Department of Defense gives notice that it is renewing the charter for the Board on Coastal Engineering Research (hereafter referred to as “the Board”).

The Board is a non-discretionary Federal advisory committee and shall provide the Coastal Engineering Research Center, through the Chief of Engineers/Commander, U.S. Army Corps of Engineers, independent advice and recommendations on reports of investigations made concerning shore erosion on coastal and lake waters and the protection of such shores.

The Chief of Engineers/Commander, U.S. Army Corps of Engineers may act upon the Board's advice and recommendations.

The Board shall report to the Secretary of the Army through the Chief of Engineers/Commander, U.S. Army Corps of Engineers.

The Department of Defense, through the Secretary of the Army, the Assistant Secretary of the Army (Civil Works), and the U.S. Corps of Engineers, shall provide support as deemed necessary for the performance of the Board's functions and shall ensure compliance with the requirements of the Federal Advisory Committee Act of 1972 and the Government in the Sunshine Act of 1976 (5 U.S.C. 552b).

The Board shall be composed of not more than seven members, of whom four shall be officers of the Corps of Engineers and three shall be civilian engineers recommended by the Chief of Engineers due to his or her special fitness in the field of beach erosion and shore protection.

If the Secretary of Defense nominated the Deputy Commanding General for Civil and Emergency Operations, U.S. Army Corps of Engineers to the Board by ex officio position, that person shall serve as the President of the Board; otherwise, the Board shall pick its president.

Board members, who are not full-time or permanent part-time federal officers or employees, shall be appointed by the Secretary of Defense to serve as experts and consultants under the authority of 5 U.S.C. 3109 and shall serve as special government employees, whose appointments must be renewed on an annual basis.

Pursuant to Public Law 91-611, Title I, Section 105, December 31, 1970, 84 Stat. 1819, Board members who are not full-time or permanent part-time federal officers or employees, may be paid at rates not to exceed the daily equivalent of the rate for a GS-15, step 10, for each day of attendance at Board meetings, not to exceed thirty days per year, in addition to the traveling and other necessary expenses connected with their duties on the Board in accordance with the provisions of Title 5, United States Code, Section 5703(b), (d), and Section 5707. All other Board members shall receive compensation for travel and per diem for official travel.

With DoD approval, the board is authorized to establish subcommittees, as necessary and consistent with its mission. These subcommittees shall operate under the provisions of the Federal Advisory Committee Act of 1972, the Government in the Sunshine Act of 1976 (5 U.S.C. 552b), and other governing DoD and Federal statutes and regulations.

Such subcommittees shall not work independently of the chartered Board, and shall report all their recommendations and advice to the Board for full deliberation and discussion. Subcommittees have no authority to make decisions on behalf of the chartered Board; nor can they report directly to the Department of Defense or any Federal officers or employees who are not Board members.

Subcommittee members, who are not Board members, shall be appointed by the Secretary of Defense according to governing DoD policy and procedures. Such individuals, if not full-time or part-time government employees, shall be appointed to serve as experts and consultants under the authority of 5 U.S.C. 3109, and shall serve as special government employees, whose appointments must be renewed on an annual basis.

SUPPLEMENTARY INFORMATION: The Board shall meet at the call of the Board's Designated Federal Officer, in consultation with the Board's president. The estimated number of Board meetings is two each year.

The Designated Federal Officer, pursuant to DoD policy, shall be a full-time or permanent part-time DoD employee, and shall be appointed in accordance with governing DoD policies and procedures. In addition, the Designated Federal Officer is required to be in attendance for the duration at all committee and subcommittee meetings. In the absence of the Designated Federal Officer, an Alternate Designated Federal Officer shall attend each committee and subcommittee meeting in its entirety.

Pursuant to 41 CFR 102-3.105(j) and 102-3.140, the public or interested organizations may submit written statements to the Board on Coastal Engineering Research mission and functions. Written statements may be submitted at any time or in response to the stated agenda of planned meeting of the Board on Coastal Engineering Research.

All written statements shall be submitted to the Designated Federal Officer for the Board on Coastal Engineering Research, and this individual will ensure that the written statements are provided to the membership for their consideration. Contact information for the Board on Coastal Engineering Research Designated Federal Officer can be obtained from the GSA's FACA Database— https://www.fido.gov/facadatabase/public.asp.

The Designated Federal Officer, pursuant to 41 CFR 102-3.150, will announce planned meetings of the Board on Coastal Engineering Research. The Designated Federal Officer, at that time, may provide additional guidance on the submission of written statements that are in response to the stated agenda for the planned meeting in question.

FOR FURTHER INFORMATION CONTACT: Contact Jim Freeman, Deputy Advisory Committee Management Officer for the Department of Defense, 703-601-6128.

Dated: December 21, 2010.
Morgan F. Park,
Alternate OSD Federal Register Liaison Officer, Department of Defense.

[FR Doc. 2010-32506 Filed 12-27-10; 8:45 am]

BILLING CODE 5001-06-P